DEPARTMENT OF THE INTERIOR

Bureau of Land Management

[OR110-5880-PB; HAG02-0258]

Notice of Public Meeting, Medford District Resource Advisory Committee Meeting

AGENCY: Bureau of Land Management, Department of the Interior.

ACTION: Notice of public meeting.

SUMMARY: In accordance with the Federal Land Policy and Management Act (FLPMA) and the Federal Advisory Committee Act of 1972 (FACA), the U.S. Department of the Interior, Bureau of Land Management (BLM), Medford District Resource Advisory Committee (RAC), will meet as indicated below.

DATES: The meeting will be held October 10, 2002, at the Medford District Office, Medford, OR beginning at 10 a.m. The public comment period will begin at approximately 2 p.m. and the meeting will adjourn at approximately 4 p.m.

SUPPLEMENTARY INFORMATION: The 21-member Committee advises the Secretary of the Interior, through the Bureau of Land Management, on a variety of planning and management issues associated with public land management in Medford. At this meeting, topics we plan to discuss include: final approval of 2003 projects, the potential role of the RAC as it relates to management of the Cascade Siskiyou National Monument, and the overall goals of the RAC.

All meetings are open to the public. The public may present written comments to the Committee. Each formal Committee meeting will also have time allocated for hearing public comments. Depending on the number of persons wishing to comment and time available, the time for individual oral comments may be limited. Individuals who plan to attend and need special assistance, such sign language interpretation, tour transportation or other reasonable accommodations, should contact the BLM as provided below.

FOR FURTHER INFORMATION CONTACT: Karen Gillespie, Public Affairs Officer, 3040 Biddle Road, Medford, OR, Telephone (541) 618-2424.

Dated: August 30, 2002.
Mary Smelcer,
Acting District Manager.

[FR Doc. 02-22797 Filed 9-9-02; 8:45 am]

BILLING CODE 4310-33-M